DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of a meeting of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute on Alcohol Abuse and Alcoholism, including consideration of personnel qualifications and performances, and the competence of individual investigators, the disclosure of which would constitute a clearly unwarranted invasion of personal privacy.

Name of Committee: Board of Scientific Counselors, NIAAA, NIAAA Board of Scientific Counselors.

Date: June 7-9, 2004.

Closed: June 7, 2004, 7 p.m. to 10 p.m.

Agenda: To review and evaluate board of Scientific Counselors Administrative Procedures.

Place: National Institutes of Health, Natcher Building, 45 Center Drive, Room 45-F1/F2, Bethesda, MD 20892.

Open: June 8, 2004, 7:45 a.m. ti 9 a.m.

Agenda: Overview of Intramural Program.

Place: National Institutes of Health, Natcher Building, 45 Center Drive, Room 45-F1/F2, Bethesda, MD 20892.

Closed: June 8, 2004, 8 a.m. to 6 p.m.

Agenda: To review and evaluate the Laboratories of Physiologic Studies (LCS), and Epidemiology and Biometry (LEB).

Place: National Institutes of Health, Natcher Building, 45 Center Drive, Room 45-F1/F2, Bethesda, MD 20892.

Closed: June 8, 2004, 8 a.m. to 4:30 p.m.

Agenda: To review and evaluate the Laboratory of Neurogenetics.

Place: National Institutes of Health, Natcher Building, 45 Center Drive, Room 45-F1/F2, Bethesda, MD 20892.

Contact Person: Brenda L. Sandler, Chief, Administrative Branch, NIAAA, 5635 Fishers Lane, MSC 9304, Bethesda, MD 20892-9304, 301-402-9386, sandler@niaaa.nih.gov.

Any interested person may file written comments with the committee by forwarding the statement to the Contact Person listed on this notice. The statement should include the name, address, telephone number and when applicable, the business or professional affiliation of the interested person.

(Catalogue of Federal Domestic Assistance Program Nos. 93.271, Alcohol Research Career Development Awards for Scientists and Clinicians; 93.272, Alcohol National Research Service Awards for Research Training; 93.273, Alcohol Research Programs; 93,891, Alcohol Research Center Grants, National Institutes of Health, HHS)
Dated: April 21, 2004.
LaVerne Y. Stringfield,
Director, Office of Federal Advisory Committee Policy.

[FR Doc. 04-9681 Filed 4-28-04; 8:45 am]

BILLING CODE 4140-01-M